ENVIRONMENTAL PROTECTION AGENCY

[FRL-12520-01-R9]

Clean Air Act Operating Permit Program; Order on Petition for Objection to State Operating Permit for Bella Energy Facility

AGENCY: Environmental Protection Agency (EPA).

ACTION: Notice of final order on petition.

SUMMARY: The Environmental Protection Agency (EPA) Administrator signed an order dated December 16, 2024, granting in part and denying in part a petition dated August 6, 2024, from Sierra Club. The Petition requested that the EPA object to a Clean Air Act (CAA) title V operating permit issued by the Pinal County Air Quality Control District (PCAQCD) to the Seguro Energy Partners LLC, Bella Energy Facility (“Bella Energy”), an electric generating station to be located in Pinal County, Arizona.

FOR FURTHER INFORMATION CONTACT: Catherine Valladolid, EPA Region 9, (415) 947-4103, valladolid.catherine@epa.gov. The final Order and Petition are available electronically at: https://www.epa.gov/title-v-operating-permits/title-v-petition-database.

SUPPLEMENTARY INFORMATION: The EPA received a petition from Sierra Club dated August 6, 2024, requesting that the EPA object to the issuance of operating permit number V20700.000, issued by PCAQCD to Bella Energy in Pinal County, Arizona. On December 16, 2024, the EPA Administrator issued an order granting in part and denying in part the petition. The Order explains the basis for the EPA's decision.

Sections 307(b) and 505(b)(2) of the CAA provide that a petitioner may request judicial review of those portions of an order that deny issues in a petition. Any petition for review shall be filed in the United States Court of Appeals for the appropriate circuit no later than August 22, 2025.

Dated: June 2, 2025.
Matthew Lakin,
Director, Air and Radiation Division, Region IX.

[FR Doc. 2025-11409 Filed 6-20-25; 8:45 am]

BILLING CODE 6560-50-P